DEPARTMENT OF LABOR

Veterans' Employment and Training Service

Agency Information Collection Activities; Comment Request

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Veterans' Employment and Training Service (VETS) is soliciting comments concerning the proposed revision of the Competitive Grant Program Reporting information collection. A copy of the proposed information collection request can be obtained by contacting the individual listed below in the ADDRESSES section of this notice.

DATES: Written comments must be submitted to the office listed in the Addresses section of this notice on or before September 25, 2023.

ADDRESSES: Submit comments to Kate McCord, Management and Program Analyst, DOL-VETS via email at hvrp@dol.gov, subject line “2023 HVRP 1293-0014 ICR Comment.” Written comments also may be transmitted by email to DOL_PRA_PUBLIC@dol.gov, identified by OMB Control Number 1293-0014.

FOR FURTHER INFORMATION CONTACT: Kate McCord, Management and Program Analyst, DOL-VETS, at (503) 806-4241 (this is not a toll-free number) or by email at hvrp@dol.gov, subject line “2023 HVRP 1293-0014 ICR Information.”

SUPPLEMENTARY INFORMATION:

I. Background

The Department of Labor's VETS administers funds for the Homeless Veterans' Reintegration Program (HVRP) grant on an annual basis. These competitive grants are codified under 38 U.S.C. 2021, 2021A, and 2023. VETS provides funds to grantees through annual Funding Opportunity Announcements and incremental funding throughout the grant's three-year (12 quarters) period of performance. The total number of grantees varies from year to year based on the amount of available funds, awarded in grants up to $500,000 each year or up to $1.5 million in total.

The Assistant Secretary for Veterans' Employment and Training monitors and supervises the distribution and use of those funds as required by 38 U.S.C. 2021(b) and 38 U.S.C. 2021A. Additionally, and in accordance with 38 U.S.C. 2021(e), the Secretary reviews performance and provides an annual report to Congress on the program, including an evaluation of the services furnished to veterans and an analysis of the information we have collected.

The forms and reports collect required programmatic and financial data from applicants and grantees. The continued use of standardized formats for collecting this information helps to ensure that requested data is provided in a uniform way, reporting burdens are minimized, the impact of collection requirements on respondents are properly assessed, collection instruments are clearly understood by respondents, and the information is easily consolidated for posting in accordance with statutory requirements.

II. Current Action

VETS is requesting approval for a revision of the Competitive Grant Program Reporting information collection. An Emergency OMB Clearance approved the collection of six (6) new questions in the VETS-701 Technical Performance Report (TPR) for through October 31, 2023. These questions were added to comply with 38 U.S.C. 2021 (as amended by Public Law 117-328 on December 23, 2022), which requires grant recipients to collect the period of military service, employment history, and housing status from participants enrolled in the program. Continued collection of this information ensures all veterans served by HVRP grant recipients are represented in the data aggregation and analysis used to assess the effectiveness of grant programs and submit reports to Congress.

• VETS-701 Technical Performance Report: On the Participant Info tab, VETS proposes to add one question that identifies the era that best represents when the participant served in the Armed Forces. VETS proposes to add two questions that record the participant's housing situation at enrollment and at program exit. VETS proposes to add three questions that capture the participant's employment history at enrollment, specifically: the number of weeks (0 to 26) the participant was unemployed within the past six months, the living wage (hourly rate) of the participant's service delivery county, and the number of weeks (0 to 26) the participant was earning an hourly wage below the living wage for the participant's service delivery county within the past six months. VETS also proposes to add five of the six new questions to the optional new enrollment completion tool embedded within the TPR form (New Enrollment Entry tab). Housing status at exit is omitted as that question cannot be answered at the time of participant enrollment.

There are no proposed changes to the other five forms in this information collection: VETS-700 Planned Goals Chart, VETS-702 Technical Performance Narrative (TPN), VETS-703 Stand Down After Action Report (SDAAR), VETS-704 Abstract, or VETS-705 Chart of Past Performance.

III. Desired Focus of Comments

VETS is particularly interested in comments that:

• Evaluate whether the proposed collection of information is necessary for the proper performance of the functions of the program, including whether the information will have practical utility.

• Evaluate the accuracy of the agency's estimates of the burden and cost of the collection of information, including the validity of the methodology and assumptions used.

• Enhance the quality, utility and clarity of the information collection.

• Minimize the burden of the collection of information on those who are to respond, including the use of automated collection techniques or other forms of information technology, e.g., permitting electronic submissions of responses.

IV. Estimated Burden

The Department's estimated burden total for the collection with the proposed changes are shown in the chart below. Overall, the proposed changes have increased the burden by 174 hours, from 11,006 to 11,180. The burden hour increase is limited to the VETS-701 TPR form, which increased from 7,404 hours to 7,578 hours. There is no change to the number of respondents or the frequency of responses per respondent. There are no proposed changes to the VETS-700, VETS-702, VETS-703, VETS-704, or VETS-705.

Estimated Annual Burden Hours
Form | Total respondents | Number of responses per respondent | Total responses | Average burden time per response (hours) | Estimated burden hours
VETS-700 Planned Goals (Applicants) | 147 | 1 | 147 | 1.0 | 147
VETS-701 TPR (Quarters 1-4; Year 1 Grantees) | 57 | 4 | 228 | 14.25 | 3,249
VETS-701 TPR (Quarters 1-4; Year 2 and Year 3 Grantees) | 117 | 4 | 468 | 7.25 | 3,393
VETS-701 TPR (Quarters 5-8; Year 1 Grantees) | 0 | 0 | 0 | 0 | 0
VETS-701 TPR (Quarters 5-8; Year 2 and Year 3 Grantees) | 117 | 4 | 468 | 2.0 | 936
VETS-702 TPN (Quarters 1-4; All Grantees Years 1-3) | 174 | 4 | 700 | 4.0 | 2,784
VETS-702 TPN (Quarters 5-8; Year 2 and Year 3 Grantees) | 117 | 4 | 468 | 1.0 | 468
VETS-703 SDARR | 35 | 1 | 35 | 0.75 | 26
VETS-704 Abstract (Applicants) | 147 | 1 | 116 | 1.0 | 116
VETS-705 Past Performance Chart(Applicants) | 59 | 1 | 59 | 0.5 | 26
Totals | 970 | N/A | 2,716 | N/A | 11,180

The DOL seeks PRA authorization for this information collection for three (3) years.

Agency: DOL-VETS.

Type of Review: Revision.

Title of Collection: VETS' Competitive Grant Program Reporting.

OMB Control Number: 1293-0014.

Affected Public: State, local, and Tribal governments; Private sector—businesses or other for-profits and not-for-profit institutions.

Forms:

1. VETS-700, Competitive Grants (CG) Planned Goals Chart;

2. VETS-701, CG Technical Performance Report (TPR);

3. VETS-702, CG Technical Performance Narrative (TPN);

4. VETS-703, Stand Down After Action Report (SDAAR);

5. VETS-704, Abstract and;

6. VETS-705, Past Performance Chart.

(Authority: 44 U.S.C. 3506(c)(2)(A).)

Comments submitted in response to this notice will be summarized and/or included in the request for Office of Management and Budget approval of the information collection request; they also will become a matter of public record.

James D. Rodriguez,
Assistant Secretary, Veterans' Employment and Training Service, U.S. Department of Labor.

[FR Doc. 2023-15668 Filed 7-24-23; 8:45 am]

BILLING CODE 4510-79-P